POSTAL REGULATORY COMMISSION

[Docket No. MT2011-3; Order No. 649]

Market Test of Marketing Mail Made Easy

AGENCY: Postal Regulatory Commission.

ACTION: Notice.

SUMMARY: The Commission is noticing a recently-filed Postal Service proposal to conduct a 2-year market test involving the sale of Marketing Mail Made Easy. This document describes the proposed test, addresses procedural aspects of the filing, and invites public comment.

DATES: Comment deadline: February 4, 2011; reply comment deadline: February 15, 2011.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, 202-789-6820 or stephen.sharfman@prc.gov.

SUPPLEMENTARY INFORMATION: On January 12, 2011, the Postal Service filed a notice, pursuant to 39 U.S.C. 3641, announcing its intent to initiate a market test of an experimental market dominant product, Marketing Mail Made Easy (MMME).¹ The market test will begin on or about February 27, 2011 and continue for up to 2 years.

¹ Notice of the United States Postal Service of Market Test of Experimental Product—Marketing Mail Made Easy, January 12, 2011 (Notice).

The Postal Service explains that MMME is designed to encourage small and medium-sized businesses to utilize the mail to promote and market their businesses at an affordable cost, and with reduced barriers to entry. MMME mail must be prepared according to the simplified address option for Standard Mail saturation. Permits, permit fees, or annual accounting fees will not be required. The product will be limited to locally-entered and locally-paid mail to be delivered to every household on chosen corresponding local delivery routes, with a daily limit of 5,000 pieces entered per office. Id. at 1.

The Postal Service states that the market test price for MMME mail will be equivalent to the price for Standard Mail saturation flats weighing less than 3.3 ounces and entered at the Destination Delivery Unit. The current price is 14.2 cents per piece. Id. at 4.

The Postal Service's Notice describes the market test in more detail. It discusses customer demand for the product, a detailed product description, pricing and potential benefits, and the section 3461 statutory criteria for market tests. A data collection plan also is proposed. Id. at 2-7.

The Commission establishes Docket No. MT2011-3 for consideration of matters raised by the Notice. Interested persons may submit comments on whether the Postal Service's filing in the captioned docket is consistent with the policies of 39 U.S.C. 3641. Comments are due no later than February 4, 2011. Reply comments are due not later than February 15, 2011. The filing can be accessed via the Commission's Web site (http://www.prc.gov).

The Commission appoints Larry Fenster to serve as Public Representative in this docket.

It is ordered:

1. The Commission establishes Docket No. MT2011-3 for consideration of the matters raised by the Notice.

2. Pursuant to 39 U.S.C. 505, Larry Fenster is appointed to serve as officer of the Commission (Public Representative) to represent the interests of the general public in this proceeding.

3. Comments by interested persons are due no later than February 4, 2011.

4. Reply comments are due no later than February 15, 2011.

5. The Secretary shall arrange for publication of this order in the Federal Register.

By the Commission.
Shoshana M. Grove,
Secretary.

[FR Doc. 2011-1096 Filed 1-19-11; 8:45 am]

BILLING CODE 7710-FW-P